DEPARTMENT OF JUSTICE

[OMB Number 1103-0098]

Proposed eCollection eComments Requested

AGENCY: Office of Community Oriented Policing Services, Department of Justice.

ACTION: Notice.

SUMMARY: The Department of Justice (DOJ) Office of Community Oriented Policing Services (COPS) will be submitting the following information collection request to the Office of Management and Budget (OMB) for review and approval in accordance with the Paperwork Reduction Act of 1995. The proposed information collection was previously published in the Federal Register on December 12, 2016, to obtain comments from the public and affected agencies.

DATES: The purpose of this notice is to allow for an additional 30 days for public comment May 8, 2017.

FOR FURTHER INFORMATION CONTACT: If you have additional comments especially on the estimated public burden or associated response time, suggestions, or need a copy of the proposed information collection instrument with instructions or additional information, please contact Lashon M. Hilliard, Department of Justice Office of Community Oriented Policing Services, 145 N Street NE., Washington, DC 20530. Written comments and/or suggestions can also be directed to the Office of Management and Budget, Office of Information and Regulatory Affairs, Attention Department of Justice Desk Officer, Washington, DC 20530 or sent to OIRA_submissions@omb.eop.gov.

SUPPLEMENTARY INFORMATION: The proposed information collection was previously published in the Federal Register at 81 FR 90869, on December 12, 2016, to obtain comments from the public and affected agencies.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: COPS Application Package.

3. The agency form number, if any, and the applicable component of the Department sponsoring the collection: 1103-0098 U.S. Department of Justice Office of Community Oriented Policing Services.

4. Affected public who will be asked or required to respond, as well as a brief abstract: Primary: COPS Office grantees.

5. An estimate of the total number of respondents and the amount of time estimated for an average respondent to respond: The estimated total number of respondents is 5,000. The estimated hourly burden to the applicant is 11 hours for each respondent to review the instructions and complete the application.

6. An estimate of the total public burden (in hours) associated with the collection: There are an estimated 55,000 total annual burden hours associated with this collection.

If additional information is required contact: Melody Braswell, Department Clearance Officer, United States Department of Justice, Justice Management Division, Policy and Planning Staff, Two Constitution Square, 145 N Street NE., 3E.405A, Washington, DC 20530.

Dated: March 31, 2017.
Melody Braswell,
Department Clearance Officer for PRA, U.S. Department of Justice.

[FR Doc. 2017-06786 Filed 4-5-17; 8:45 am]

BILLING CODE 4410-AT-P